CONSUMER FINANCIAL PROTECTION BUREAU

12 CFR Part 1002

[Docket No. CFPB-2024-0018]

RIN 3170-AA09

Small Business Lending Under the Equal Credit Opportunity Act (Regulation B); Extension of Compliance Dates; Correction

AGENCY: Consumer Financial Protection Bureau.

ACTION: Interim final rule with request for public comment; correcting amendment.

SUMMARY: On July 3, 2024, the Consumer Financial Protection Bureau (CFPB) published the “Small Business Lending Under the Equal Credit Opportunity Act (Regulation B); Extension of Compliance Dates” interim final rule with request for public comment (interim rule) in the Federal Register. Amendatory instruction 2 in the interim rule contained a typographical error; this document corrects this typographical error.

DATES: This correction is effective September 19, 2024.

FOR FURTHER INFORMATION CONTACT: George Karithanom, Regulatory Implementation and Guidance Program Analyst, Office of Regulations, at 202-435-7700 or https://reginquiries.consumerfinance.gov/. If you require this document in an alternative electronic format, please contact CFPB_Accessibility@cfpb.gov.

SUPPLEMENTARY INFORMATION: On July 3, 2024, the Consumer Financial Protection Bureau (CFPB) published the interim rule in the Federal Register.¹ Amendatory instruction 2 in the third column of page 55029 of volume 89 of the Federal Register contained a typographical error. Specifically, the phrase “2. Section 1002.14 is amended by:” should have read: “2. Section 1002.114 is amended by:”. The CFPB is issuing this document to correct this typographical error.

¹ 89 FR 55024 (July 3, 2024).

List of Subjects in 12 CFR Part 1002

Banks, banking, Civil rights, Consumer protection, Credit, Credit unions, Marital status discrimination, National banks, Penalties.

Authority and Issuance

For the reasons set forth in the preamble, the CFPB amends Regulation B, 12 CFR part 1002, by making the following correcting amendment:

PART 1002—EQUAL CREDIT OPPORTUNITY ACT (REGULATION B)

1. The authority citation for part 1002 continues to read as follows:

Authority: 12 U.S.C. 5512, 5581; 15 U.S.C. 1691b. Subpart B is also issued under 15 U.S.C. 1691c-2.

2. Section 1002.114 is amended:

a. In paragraph (b)(1), by removing “October 1, 2024” and adding in its place “July 18, 2025”;

b. In paragraph (b)(2), by removing “April 1, 2025” and adding in its place “January 16, 2026”;

c. In paragraphs (b)(3) and (4), by removing “January 1, 2026” and adding in its place “October 18, 2026”; and

d. By adding paragraph (c)(3).

The addition reads as follows:

§ 1002.114 Effective date, compliance date, and special transitional rules.

* * * * *

(c) * * *

(3) Alternative time period for determining compliance dates. A financial institution is permitted to use its originations of covered credit transactions in each of calendar years 2023 and 2024 in lieu of calendar years 2022 and 2023 as specified in paragraphs (b) and (c)(2) of this section.

Paul Hannah,
Senior Counsel and Federal Register Liaison, Consumer Financial Protection Bureau.

[FR Doc. 2024-21265 Filed 9-18-24; 8:45 am]

BILLING CODE 4810-AM-P